LEGAL SERVICES CORPORATION

Sunshine Act Meetings of the Board of Directors

Time and Date: The Legal Services Corporation (“LSC”) Board of Directors will meet by telephone on September 8, 2009 commencing at 2 p.m., Eastern Daylight Savings Time.

Public Observation: Members of the public who wish to listen to the meeting live may do so by joining members of the LSC staff who will be calling in from the 3rd Floor Conference Center of the offices of the Legal Services Corporation or by following the telephone call-in directions given below. Members of the public who call in to listen to the meeting are asked to keep their telephones muted to eliminate background noises. Comments from the public may from time-to-time be solicited by the Chairman.

Call-In Directions:

• Call toll-free number 1-(866) 266-3378;

• When prompted, enter the following Conference ID Number: 2022951503 followed by the “#” sign;

• When prompted, enter the following Pass Code: 5321 followed by the “#” sign; and

• When connected to the call, please “Mute” your telephone immediately.

Location: Legal Services Corporation, 3rd Floor Conference Center, 3333 K Street, NW., Washington, DC.

Status of Meeting: Open.

Matters To Be Considered:

Board of Directors

Agenda

Open Session

1. Approval of agenda.

2. Consider and act on adoption of LSC's 2009 Justice Gap Report.

3. Consider and act on whether: (a) To establish a Search Committee for LSC President and, if such committee is established, then (b) to authorize the Chairman of the Board to appoint the membership of the committee and (c) to authorize the committee to issue a Request for Proposals soliciting bids in accordance with LSC's Administrative Manual for a search firm to aid in the search for the next president of LSC.

4. Consider and act on whether to authorize closing a portion of the Board's Finance Committee meeting of September 21, 2009, for a briefing by legal counsel and possible deliberation and action by the Committee on an internal budgeting issue.

5. Consider and act on other business.

6. Consider and act on adjournment of meeting.

Contact Person for Information: Katherine Ward, Executive Assistant to the Vice President & General Counsel, at (202) 295-1500.

Special Needs: Upon request, meeting notices will be made available in alternate formats to accommodate visual and hearing impairments. Individuals who have a disability and need an accommodation to listen to the meeting may notify Katherine Ward at (202) 295-1500 or kward@lsc.gov.

Dated: September 1, 2009.
Victor M. Fortuno,
Vice President & General Counsel.

[FR Doc. E9-21391 Filed 9-1-09; 4:15 pm]

BILLING CODE 7050-01-P